FEDERAL RESERVE SYSTEM

Formations of, Acquisitions by, and Mergers of Bank Holding Companies; Correction

This notice corrects a notice (FR Doc. 2014-30354) published on page 78436 of the issue for Tuesday, December 30, 2014.

Under the Federal Reserve Bank of Kansas City heading, the entry for American Bancorporation, Inc., Sapulpa, Oklahoma, is revised to read as follows:

1. American Bancorporation, Inc., Sapulpa, Oklahoma; to acquire 100 percent of the voting shares of Pawhuska Financial Corp., and thereby indirectly acquire First National Bank in Pawhuska, both in Pawhuska, Oklahoma.

Comments on this application must be received by January 20, 2015.

Board of Governors of the Federal Reserve System, December 30, 2014.
Michael J. Lewandowski,
Associate Secretary of the Board.

[FR Doc. 2014-30814 Filed 1-2-15; 8:45 am]

BILLING CODE 6210-01-P